DEPARTMENT OF LABOR

Office of the Secretary

Submission for OMB Review; Comment Request

December 13, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for OSHA, Office of Management and Budget, Room 10235, Washington, DC 20503 (202) 395-7316), within 30 days from the date of this publication in the Federal Register.

The OMB is particularly interested in comments which:

• Evaluate whether the proposed collection of information is unnecessary for the proper performance of the functions of the agency, including whether the information will have practical utility.

• Evaluate the accuracy of the agency's estimate of the burden of the proposed collection of information, including the validity of the methodology and assumptions used:

• Enhance the quality, utility, and clarity of the information to be collected; and

• Minimize the burden of the collection of information on those who are to respond, including through the use of appropriate automated, electronic, mechanical, or other technological collection techniques or other forms of information technology, e.g., permitting electronic submission of responses.

Type of Review: Existing collection without an OMB control number.

Agency: Occupational Safety and Health Administration (OSHA).

Title: Occupational Safety and Health State Plan Information.

OMB Number: 1218-ONEW.

Affected Public: State, Local, or Tribal Government.

Frequency: On occasion, Quarterly, and Annually.

Type of Response: Reporting.

Number of Respondents: 26.

Number of Annual Responses: 1,552.

Estimated Time Per Response: Varies from 61 hours to prepare and submit plan changes to 20 hours to prepare information for monitoring activities.

Total Burden Hours: 9,874.

Total Annualized Capital/Startup Costs: $0.

Total Annual Costs (operating/maintaining systems or purchasing services): $0.

Description: Section 18 of the Occupational Safety and Health Act encourages the States to assume responsibility for the development and enforcement of State occupational safety and health standards through the vehicle of an approved State Plan. States choosing to operate OSHA-approved State Plans must provide information to document that their program are, “at least as effective” as the Federal OSHA program.

Ira L. Mills,
Departmental Clearance Officer.

[FR Doc. 01-31814 Filed 12-26-01; 8:45 am]

BILLING CODE 4510-26-M